DEPARTMENT OF ENERGY

Federal Energy Regulatory Commission

[Project No. 5944-023]

Ampersand Moretown Hydro, LLC; Notice of Intent To File License Application, Filing of Pre-Application Document, and Approving Use of the Traditional Licensing Process

a. Type of Filing: Notice of Intent to File License Application and Request to Use the Traditional Licensing Process.

b. Project No.: 5944-023.

c. Date Filed: November 20, 2017.

d. Submitted By: Ampersand Moretown Hydro, LLC.

e. Name of Project: Moretown No. 8 Project.

f. Location: On the Mad River, near the town of Moretown, in Washington County, Vermont. No federal lands are occupied by the project works or located within the project boundary.

g. Filed Pursuant to: 18 CFR 5.3 and 5.5 of the Commission's regulations.

h. Potential Applicant Contact: Sayad Moudachirou, Ampersand Energy Partners, LLC, 717 Atlantic Avenue, Suite 1A, Boston, MA 02111; (617) 933-7206; email—sayad@ampersandenergy.com.

i. FERC Contact: Steve Kartalia at (202) 502-6131; or email at stephen.kartalia@ferc.gov.

j. Ampersand Moretown Hydro, LLC filed its request to use the Traditional Licensing Process on November 20, 2017. Ampersand Moretown Hydro, LLC provided public notice of its request on November 30, 2017. In a letter dated January 17, 2018, the Director of the Division of Hydropower Licensing approved Ampersand Mortetown Hydro, LLC's request to use the Traditional Licensing Process.

k. With this notice, we are initiating informal consultation with the U.S. Fish and Wildlife Service and NOAA Fisheries under section 7 of the Endangered Species Act and the joint agency regulations thereunder at 50 CFR part 402; and NOAA Fisheries under section 305(b) of the Magnuson-Stevens Fishery Conservation and Management Act and implementing regulations at 50 CFR 600.920. We are also initiating consultation with the Vermont State Historic Preservation Officer, as required by section 106 of the National Historic Preservation Act, and the implementing regulations of the Advisory Council on Historic Preservation at 36 CFR 800.2.

l. Ampersand Moretown Hydro, LLC filed a Pre-Application Document (PAD; including a proposed process plan and schedule) with the Commission, pursuant to 18 CFR 5.6 of the Commission's regulations.

m. A copy of the PAD is available for review at the Commission in the Public Reference Room or may be viewed on the Commission's website (http://www.ferc.gov), using the eLibrary link. Enter the docket number, excluding the last three digits in the docket number field to access the document. For assistance, contact FERC Online Support at FERCOnlineSupport@ferc.gov, (866) 208-3676 (toll free), or (202) 502-8659 (TTY). A copy is also available for inspection and reproduction at 5594 Route 100B, Moretown, VT 05660.

n. The licensee states its unequivocal intent to submit an application for a subsequent license for Project No. 5944. Pursuant to 18 CFR 16.20, each application for a subsequent license and any competing license applications must be filed with the Commission at least 24 months prior to the expiration of the existing license. All applications for license for this project must be filed by November 30, 2020.

o. Register online at http://www.ferc.gov/docs-filing/esubscription.asp to be notified via email of new filings and issuances related to this or other pending projects. For assistance, contact FERC Online Support.

Dated: January 17, 2018.
Kimberly D. Bose,
Secretary.

[FR Doc. 2018-01111 Filed 1-22-18; 8:45 am]

BILLING CODE 6717-01-P